DEPARTMENT OF COMMERCE

Foreign-Trade Zones Board

[Docket 18-2006]

Foreign-Trade Zone 47 Boone County, Kentucky, Application For Foreign-Trade Subzone Status, adidas Sales, Inc. (Apparel, Footwear, and Sporting Equipment), Hebron, Kentucky

An application has been submitted to the Foreign-Trade Zones Board (the Board) by the Northern Kentucky Foreign-Trade Zone Inc., grantee of FTZ 47, requesting special-purpose subzone status for the warehousing and distribution facilities (apparel, footwear, and sporting equipment) of adidas Sales, Inc. (adidas), located in Hebron, Kentucky. The application was submitted pursuant to the Foreign-Trade Zones Act, as amended (19 U.S.C. 81a-81u), and the regulations of the Board (15 CFR part 400). It was formally filed on April 28, 2006.

The facilities for which subzone status is proposed are located at three sites in Hebron, Kentucky (62.19 acres total; 1,012,507 sq. ft. of enclosed space): Site # 1 (25 acres; 492,507 sq. ft. of enclosed space) located at 1081/1085 Aviation Boulevard; Site # 2 (12.09 acres; 205,000 sq. ft. of enclosed space) located at 2055/2095 Global Way; and Site # 3 (25.1 acres; 315,000 sq. ft. of enclosed space) located at 1505 Worldwide Boulevard. The facilities (approximately 730 employees) may be used under FTZ procedures for warehousing and distribution of apparel, footwear, and sporting equipment.

Zone procedures would allow adidas to defer Customs duty payments until merchandise is shipped from its facilities to the U.S. market. The company would be able to avoid duty on foreign merchandise which becomes scrap/waste, estimated at less than one percent of imported products. The application indicates that adidas also anticipates realizing significant logistical/procedural benefits and that savings from FTZ procedures could help improve the facilities' international competitiveness.

In accordance with the Board's regulations, a member of the FTZ Staff has been designated examiner to investigate the application and report to the Board.

Public comment is invited from interested parties. Submissions (original and 3 copies) shall be addressed to the Board's Executive Secretary at the address below. The closing period for their receipt is July 10, 2006. Rebuttal comments in response to material submitted during the foregoing period may be submitted during the subsequent 15-day period to July 24, 2006.

A copy of the application and accompanying exhibits will be available for public inspection at each of the following locations:

U.S. Department of Commerce Export Assistance Center, 36 East 7th Street, Suite 2650, Cincinnati, OH 45202.

Office of the Executive Secretary, Foreign-Trade Zones Board, U.S. Department of Commerce, Room 1115, 1401 Constitution Ave. NW., Washington, DC 20230.

Dated: April 28, 2006.
Dennis Puccinelli,
Executive Secretary.

[FR Doc. E6-7054 Filed 5-8-06; 8:45 am]

BILLING CODE 3510-DS-S